DEFENSE BASE CLOSURE AND REALIGNMENT COMMISSION

Notice of the Defense Base Closure and Realignment Commission—Announcement of the Location of a Previously Announced Open Meeting (St. Louis, MO); Correction

AGENCY: Defense Base Closure and Realignment Commission.

ACTION: Notice of the Defense Base Closure and Realignment Commission—announcement of location of a previously announced open meeting (St. Louis, MO); correction.

SUMMARY: The Defense Base Closure and Realignment Commission published a document in the Federal Register of June 13, 2005, concerning an open meeting to receive comments from Federal, state and local government representatives and the general public on base realignment and closure actions in Kentucky, Illinois, Indiana, Iowa, Michigan, Missouri and Wisconsin that have been recommended by the Department of Defense (DoD). The location of this meeting, which was previously undetermined, has now been determined.

The delay of this change notice resulted from the need to acquire a new venue following the recent rescheduling of this open meeting and the short time-frame established by statute for the operations of the Defense Base Closure and Realignment Commission. The Commission requests that the public consult the 2005 Defense Base Closure and Realignment Commission Web site, http://www/brac.gov, for updates.

FOR FURTHER INFORMATION CONTACT: Please see the 2005 Defense Base Closure and Realignment Commission Web site, http://www.brac.gov. The Commission invites the public to provide direct comment by sending an electronic message through the portal provided on the Commission's website or by mailing comments and supporting documents to the 2005 Defense Base Closure and Realignment Commission, 2521 South Clark Street Suite 600, Arlington, Virginia 22202-3920. The Commission requests that public comments be directed toward matters bearing on the decision criteria described in The Defense Base Closure and Realignment Act of 1990, as amended, available on the Commission Web site. Sections 2912 through 2914 of that Act describe the criteria and many of the essential elements of the 2005 BRAC process. For questions regarding this announcement, contact Mr. Dan Cowhig, Deputy General Counsel and Designated Federal Officer, at the Commission's mailing address or by telephone at 703-699-2950 or 2708.

Correction

In the Federal Register of June 13, 2005, in FR Doc. 05-11626, on page 34093, in the first and second columns, correct the Summary caption to read:

SUMMARY: A delegation of Commissioners of the Defense Base Closure and Realignment Commission will meet on June 20, 2005 from 8:30 a.m. to 6 p.m. at the St. Louis University Busch Student Center Multipurpose Room, 20 North Grand Boulevard, St. Louis Missouri 63103 to receive comment from Federal, state and local government representatives and the general public on base realignment and closure actions in Kentucky, Illinois, Indiana, Iowa, Michigan, Missouri and Wisconsin that have been recommended by the Department of Defense (DoD). The purpose of this regional meeting is to allow communities in the listed states experiencing a base closure or major realignment action (defined as loss of 300 civilian positions or 400 military and civilian positions) an opportunity to voice their concerns, counter-arguments, and opinions in a live public forum. This meeting will be open to the public, subject to the availability of space. Sign language interpretation will be provided. The delegation will not render decisions regarding the DoD recommendations at this meeting, but will gather information for later deliberations by the Commission as a whole.

Dated: June 14, 2005.
Jeannette Owings-Ballard,
Administrative Support Officer.

[FR Doc. 05-12075 Filed 6-15-05; 11:53 am]

BILLING CODE 5001-06-P